COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities, and delete products and a service previously furnished by such agencies.

DATES: Comments must be received on or before July 21, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s) 6515-01-529-1187—Nasal Trumpet with Lube

Mandatory for: 100% of the requirement of the Department of Defense

Mandatory Source(s) of Supply: Lighthouse Works, Orlando, FL

Contracting Activity: Defense Logistics Agency Troop Support

Coverage: C-List

NSN(s)—Product Name(s)

5180-00-NIB-0002—Individual Point of Capture Kit (IPOCK)

5180-00-NIB-0003—Leader Point of Capture Kit (LPOCK)

5180-00-NIB-0004—Team Evidence Collection Kit (TECK)

5180-00-NIB-0005—Platoon Evidence Collection Kit (PECK)

Mandatory for: 100% of the requirement of the U.S. Army

Mandatory Source(s) of Supply: Industries for the Blind, Inc., West Allis, WI

Contracting Activity: Army Contracting Command, Warren, MI

Distribution: C-List

Deletions

The following products and service are proposed for deletion from the Procurement List:

Products

NSN(s)—Product Name(s): 7520-00-NIB-1314—Rotary Cutter

Mandatory Source(s) of Supply: The Lighthouse for the Blind, Inc. (Seattle Lighthouse), Seattle, WA

Contracting Activity: General Services Administration, New York, NY

NSN(s)—Product Name(s): 6530-00-784-4205—Strap, Patient Securing, Olive Drab, 72″

Mandatory Source(s) of Supply: Alphapointe, Kansas City, MO

Contracting Activity: Defense Logistics Agency Troop Support

NSN(s)—Product Name(s):

MR 3229—Goody Hair Care Product—So Gelous Purse Brush

MR 3217—Goody Hair Care Product—Fashion Contour Barrettes

Mandatory Source(s) of Supply: Association for Vision Rehabilitation and Employment, Inc., Binghamton, NY

Contracting Activity: Defense Commissary Agency

Service

Service Type: Linen Rental Service

Mandatory for: New Orleans Naval Air Station, New Orleans, LA

Mandatory Source(s) of Supply: St. Tammany Association for Retarded Citizens, Inc., Slidell, LA

Contracting Activity: Dept of the Navy, Naval Hospital, Pensacola, FL

Barry S. Lineback,
Director, Business Operations.

[FR Doc. 2016-15690 Filed 6-30-16; 8:45 am]

BILLING CODE 6353-01-P